DEPARTMENT OF COMMERCE

Bureau Of Industry And Security

Emerging Technology And Research Advisory Committee; Notice of Open Meeting

The Emerging Technology and Research Advisory Committee (ETRAC) will meet on December 15, 2016, 8:30 a.m., Room 3884, at the Herbert C. Hoover Building, 14th Street between Pennsylvania and Constitution Avenues NW., Washington, DC. The Committee advises the Office of the Assistant Secretary for Export Administration on emerging technology and research activities, including those related to deemed exports.

Agenda

Open Session

1. Welcome and Opening Remarks.

2. Update on Export Control Reform, Bureau of Industry and Security.

3. Review: Emerging Technologies in the News: “Industrial Firms Embrace 3-D” Wall Street Journal—Nov. 12, 2016; “Basic Research Key to Invigorating Innovation”—National Defense August 2016; “Emerging Capability”—Forward-looking infrared technology (FLIR) published in C4ISRNET—October 2016; “Hyperloop Preliminary Design Study-Technical Section”; Boost basic research in China” Nature—June 2016; `Encourage governments to need scientific advice” Nature September 29, 2016; and New Frequently Asked Questions on Deemed Exports Effective September 1, 2016

4. Issues for Discussion/Developments from October 2016 meeting-Priority Technologies: Electronics & Graphene Circuits; Graphene metamaterials; Robotics and Big Data; Optoelectronics & Photonics; Additive Manufacturing; Advanced materials; Hypersonics—“Hypersonic Weapons and US National Security: A 21st. Century Breakthrough” Mitchell Institute for Aerospace Studies—Air Force Association and Biomedical Engineering Materials and Applications “Digital DNA” Nature September 2016.

5. Comments from the Public.

6. Introduction and Demonstration to the new Deemed Interactive Tool.

7. Further Discussion—Toxicological Agents Final Rule.

8. “Disruptive Technologies: Advances that will transform life, business and the global economy” McKinsey Global Institute.

The open sessions will be accessible via teleconference to 25 participants on a first come, first serve basis. To join the conference, submit inquiries to Ms. Yvette Springer at Yvette.Springer@bis.doc.gov no later than, December 8, 2016.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Dated: November 16, 2016.
Yvette Springer,
Committee Liaison Officer.

[FR Doc. 2016-28127 Filed 11-22-16; 8:45 am]

BILLING CODE 3510-JT-P